ENVIRONMENTAL PROTECTION AGENCY

[EPA-HQ-OPP-2022-0327; FRL-9777-01-OCSPP]

Pesticide Program Dialogue Committee; Notice of Public Meeting

AGENCY: Environmental Protection Agency (EPA).

ACTION: Notice.

SUMMARY: Pursuant to the Federal Advisory Committee Act, the Environmental Protection Agency's (EPA's) Office of Pesticide Programs is announcing a virtual public meeting of the Pesticide Program Dialogue Committee (PPDC) on May 25 and 26, 2022, with participation by webcast only. There will be no in-person gathering for this meeting.

DATES: Virtual meeting: The virtual meeting will be held on Wednesday, May 25, 2022, from 11:00 a.m. to approximately 5:00 p.m., and Thursday, May 26, 2022, from 11 a.m. to approximately 5:00 p.m.

Oral comments: Requests to make oral comments during the virtual meeting should be provided when you register for the meeting through the link provided in ADDRESSES, or by emailing Shannon Jewell at jewell.shannon@epa.gov, by noon on Tuesday, May 17, 2022.

Accommodations requests: To request accommodation of a disability, please contact the person listed under FOR FURTHER INFORMATON CONTACT, preferably at least 10 days prior to the meeting, to give EPA as much time as possible to process your request.

ADDRESSES: To find a link to register for the meeting, please visit https://www.epa.gov/pesticide-advisory-committees-and-regulatory-partners/pesticide-program-dialogue-committee-ppdc.

FOR FURTHER INFORMATION CONTACT: Shannon Jewell, Designated Federal Officer (DFO) for the PPDC, Office of Pesticide Programs, Environmental Protection Agency, 1200 Pennsylvania Ave NW (7101M), Washington, DC 20460; telephone number: (571) 289-9911; email address: jewell.shannon@epa.gov.

SUPPLEMENTARY INFORMATION:

I. General Information

A. Does this action apply to me?

You may be potentially affected by this action if you work in in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2022-0327, is available online at https://www.regulations.gov.

Due to the public health concerns related to COVID-19, the EPA Docket Center (EPA/DC) and Reading Room is open to visitors by appointment only. For the latest status information on EPA/DC services and docket access, visit https://www.epa.gov/dockets.

II. Background

The PPDC is a federal advisory committee chartered under the Federal Advisory Committee Act (FACA) (5 U.S.C. appendix 2). EPA established the PPDC in September 1995 to provide policy advice, information and recommendations to the EPA Administrator through the Director of the Office of Pesticide Programs, Office of Chemical Safety and Pollution Prevention. The PPDC provides a public forum to discuss a wide variety of pesticide regulatory developments and reform initiatives, evolving public policy and program implementation issues associated with evaluating and reducing risks from the use of pesticides. The EPA will consider candidates from the following sectors: Environmental/public interest and animal rights groups; farm worker organizations; pesticide industry and trade associations; pesticide user, grower, and commodity groups; federal and state/local/tribal governments; the general public; academia; and public health organizations.

III. How do I participate in the virtual public meeting?

A. Virtual Meeting

The virtual meeting will be conducted via webcast. To register, please visit https://www.epa.gov/pesticide-advisory-committees-and-regulatory-partners/pesticide-program-dialogue-committee-ppdc to find a link to register for the meeting. Instructions for joining the meeting will be sent via email to those that register for the meeting.

B. Oral Comments

Requests to make brief oral comments to the PPDC during the virtual meeting should be submitted when registering for the meeting online or by emailing the Designated Federal Officer, listed under FOR FURTHER INFORMATION CONTACT on or before noon on the date set in the DATES section.

Authority: 5 U.S.C. appendix 2 et seq. and 7 U.S.C. 136 et seq.

Dated: April 19, 2022.
Edward Messina,
Director, Office of Pesticide Programs.

[FR Doc. 2022-09111 Filed 4-27-22; 8:45 am]

BILLING CODE 6560-50-P